DEPARTMENT OF AGRICULTURE

Food and Nutrition Service

Child Nutrition Programs: Income Eligibility Guidelines

AGENCY: Food and Nutrition Service, USDA.

ACTION: Notice.

SUMMARY: This notice announces the Department's annual adjustments to the Income Eligibility Guidelines to be used in determining eligibility for free and reduced-price meals and free milk and Summer Electronic Benefit Transfer benefits for the period from July 1, 2025, through June 30, 2026. These guidelines are used by schools, institutions, and facilities participating in the National School Lunch Program (and Commodity School Program), School Breakfast Program, Special Milk Program for Children, Child and Adult Care Food Program, Summer Food Service Program as well as States and Indian Tribal Organizations that administer the Summer Electronic Benefits Transfer for Children Program. The annual adjustments are required by section 9 of the Richard B. Russell National School Lunch Act. The guidelines are intended to direct benefits to those children most in need and are revised annually to account for changes in the Consumer Price Index.

DATES: July 1, 2025.

FOR FURTHER INFORMATION CONTACT: Penny Burke, Program Monitoring and Operational Support Division, Child Nutrition Programs, Food and Nutrition Service, United States Department of Agriculture, 1320 Braddock Place, Suite 401, Alexandria, Virginia 22314. Tel. (720) 822-8597.

SUPPLEMENTARY INFORMATION: This action is not a rule as defined by the Regulatory Flexibility Act (5 U.S.C. 601-612) and thus is exempt from the provisions of that Act.

In accordance with the Paperwork Reduction Act of 1995 (44 U.S.C. 3507), no recordkeeping or reporting requirements have been included that are subject to approval from the Office of Management and Budget.

The affected programs are listed in the Assistance Listings (https://sam.gov/) under No. 10.553, No. 10.555, No. 10.556, No. 10.558, and No. 10.559 and are subject to the provisions of Executive Order 12372, which requires intergovernmental consultation with State and local officials. (See 2 CFR part 415).

Background

Pursuant to sections 9(b)(1), 13A(h)(2), and 17(c)(4) of the Richard B. Russell National School Lunch Act (42 U.S.C. 1758(b)(1), 42 U.S.C. 1762(h)(2), and 42 U.S.C. 1766(c)(4)), and sections 3(a)(6) and 4(e)(1)(A) of the Child Nutrition Act of 1966 (42 U.S.C. 1772(a)(6) and 1773(e)(1)(A)), the Department annually issues the Income Eligibility Guidelines for free and reduced price meals for the National School Lunch Program (7 CFR part 210), the Commodity School Program (7 CFR part 210), School Breakfast Program (7 CFR part 220), Summer Food Service Program (7 CFR part 225), Child and Adult Care Food Program (7 CFR part 226), free milk in the Special Milk Program for Children (7 CFR part 215), and program benefits in the Summer EBT Program (7 CFR part 292). These eligibility guidelines are based on the Federal income poverty guidelines and are stated by household size. The guidelines are used to determine eligibility for free and reduced price meals, free milk, and Summer EBT benefits in accordance with applicable program rules.

Definition of Income

In accordance with the Department's policy as provided in the Food and Nutrition Service publication Eligibility Manual for School Meals, “income,” as the term is used in this notice, means income before any deductions such as income taxes, Social Security taxes, insurance premiums, charitable contributions, and bonds. It includes the following: (1) monetary compensation for services, including wages, salary, commissions or fees; (2) net income from nonfarm self-employment; (3) net income from farm self-employment; (4) Social Security; (5) dividends or interest on savings or bonds or income from estates or trusts; (6) net rental income; (7) public assistance or welfare payments; (8) unemployment compensation; (9) government civilian employee or military retirement, or pensions or veterans payments; (10) private pensions or annuities; (11) alimony or child support payments; (12) regular contributions from persons not living in the household; (13) net royalties; and (14) other cash income. Other cash income would include cash amounts received or withdrawn from any source including savings, investments, trust accounts and other resources that would be available to pay the price of a child's meal.

“Income”, as the term is used in this notice, does not include any income or benefits received under any Federal programs that are excluded from consideration as income by any statutory prohibition. Furthermore, the value of meals, milk, or EBT benefits to children shall not be considered as income to their households for other benefit programs in accordance with the prohibitions in section 12(e) of the Richard B. Russell National School Lunch Act and section 11(b) of the Child Nutrition Act of 1966 (42 U.S.C. 1760(e) and 1780(b)).

The Income Eligibility Guidelines

The following are the Income Eligibility Guidelines to be effective from July 1, 2025 through June 30, 2026. The Department's guidelines for free meals and milk and reduced price meals were obtained by multiplying the year 2025 Federal income poverty guidelines by 1.30 and 1.85, respectively, and by rounding the result upward to the next whole dollar.

This notice displays only the annual Federal poverty guidelines issued by the Department of Health and Human Services because the monthly and weekly Federal poverty guidelines are not used to determine the Income Eligibility Guidelines. The chart details the free and reduced price eligibility criteria for monthly income, income received twice monthly (24 payments per year), income received every two weeks (26 payments per year) and weekly income.

Income calculations are made based on the following formulas: monthly income is calculated by dividing the annual income by 12; twice monthly income is computed by dividing annual income by 24; income received every two weeks is calculated by dividing annual income by 26; and weekly income is computed by dividing annual income by 52. All numbers are rounded upward to the next whole dollar. The numbers reflected in this notice for a family of four in the 48 contiguous States, the District of Columbia, Guam and the territories represent an increase of 3.0 percent over last year's level for a family of the same size.

Authority: Section 9(b)(1) of the Richard B. Russell National School Lunch Act (42 U.S.C. 1758(b)(1)(A)).

Income Eligibility Guidelines
[Effective from July 1, 2025 to June 30, 2026]
Household size | Federal poverty guidelines: Annual | Reduced Price Meals—185%: Annual | Reduced Price Meals—185%: Monthly | Reduced Price Meals—185%: Twice per month | Reduced Price Meals—185%: Every two weeks | Reduced Price Meals—185%: Weekly | Free meals—130%: Annual | Free meals—130%: Monthly | Free meals—130%: Twice per month | Free meals—130%: Every two weeks | Free meals—130%: Weekly
48 Contiguous States, District of Columbia, Guam, and Territories
1 | 15,650 | 28,953 | 2,413 | 1,207 | 1,114 | 557 | 20,345 | 1,696 | 848 | 783 | 392
2 | 21,150 | 39,128 | 3,261 | 1,631 | 1,505 | 753 | 27,495 | 2,292 | 1,146 | 1,058 | 529
3 | 26,650 | 49,303 | 4,109 | 2,055 | 1,897 | 949 | 34,645 | 2,888 | 1,444 | 1,333 | 667
4 | 32,150 | 59,478 | 4,957 | 2,479 | 2,288 | 1,144 | 41,795 | 3,483 | 1,742 | 1,608 | 804
5 | 37,650 | 69,653 | 5,805 | 2,903 | 2,679 | 1,340 | 48,945 | 4,079 | 2,040 | 1,883 | 942
6 | 43,150 | 79,828 | 6,653 | 3,327 | 3,071 | 1,536 | 56,095 | 4,675 | 2,338 | 2,158 | 1,079
7 | 48,650 | 90,003 | 7,501 | 3,751 | 3,462 | 1,731 | 63,245 | 5,271 | 2,636 | 2,433 | 1,217
8 | 54,150 | 100,178 | 8,349 | 4,175 | 3,853 | 1,927 | 70,395 | 5,867 | 2,934 | 2,708 | 1,354
For each add'l family member, add | 5,500 | 10,175 | 848 | 424 | 392 | 196 | 7,150 | 596 | 298 | 275 | 138
Alaska
1 | 19,550 | 36,168 | 3,014 | 1,507 | 1,392 | 696 | 25,415 | 2,118 | 1,059 | 978 | 489
2 | 26,430 | 48,896 | 4,075 | 2,038 | 1,881 | 941 | 34,359 | 2,864 | 1,432 | 1,322 | 661
3 | 33,310 | 61,624 | 5,136 | 2,568 | 2,371 | 1,186 | 43,303 | 3,609 | 1,805 | 1,666 | 833
4 | 40,190 | 74,352 | 6,196 | 3,098 | 2,860 | 1,430 | 52,247 | 4,354 | 2,177 | 2,010 | 1,005
5 | 47,070 | 87,080 | 7,257 | 3,629 | 3,350 | 1,675 | 61,191 | 5,100 | 2,550 | 2,354 | 1,177
6 | 53,950 | 99,808 | 8,318 | 4,159 | 3,839 | 1,920 | 70,135 | 5,845 | 2,923 | 2,698 | 1,349
7 | 60,830 | 112,536 | 9,378 | 4,689 | 4,329 | 2,165 | 79,079 | 6,590 | 3,295 | 3,042 | 1,521
8 | 67,710 | 125,264 | 10,439 | 5,220 | 4,818 | 2,409 | 88,023 | 7,336 | 3,668 | 3,386 | 1,693
For each add'l family member, add | 6,880 | 12,728 | 1,061 | 531 | 490 | 245 | 8,944 | 746 | 373 | 344 | 172
Hawaii
1 | 17,990 | 33,282 | 2,774 | 1,387 | 1,281 | 641 | 23,387 | 1,949 | 975 | 900 | 450
2 | 24,320 | 44,992 | 3,750 | 1,875 | 1,731 | 866 | 31,616 | 2,635 | 1,318 | 1,216 | 608
3 | 30,650 | 56,703 | 4,726 | 2,363 | 2,181 | 1,091 | 39,845 | 3,321 | 1,661 | 1,533 | 767
4 | 36,980 | 68,413 | 5,702 | 2,851 | 2,632 | 1,316 | 48,074 | 4,007 | 2,004 | 1,849 | 925
5 | 43,310 | 80,124 | 6,677 | 3,339 | 3,082 | 1,541 | 56,303 | 4,692 | 2,346 | 2,166 | 1,083
6 | 49,640 | 91,834 | 7,653 | 3,827 | 3,533 | 1,767 | 64,532 | 5,378 | 2,689 | 2,482 | 1,241
7 | 55,970 | 103,545 | 8,629 | 4,315 | 3,983 | 1,992 | 72,761 | 6,064 | 3,032 | 2,799 | 1,400
8 | 62,300 | 115,255 | 9,605 | 4,803 | 4,433 | 2,217 | 80,990 | 6,750 | 3,375 | 3,115 | 1,558
For each add'l family member, add | 6,330 | 11,711 | 976 | 488 | 451 | 226 | 8,229 | 686 | 343 | 317 | 159

Tameka Owens,
Acting Administrator and Assistant Administrator, Food and Nutrition Service.

[FR Doc. 2025-03821 Filed 3-12-25; 8:45 am]

BILLING CODE 3410-30-P